FEDERAL COMMUNICATIONS COMMISSION

[CG Docket No. 14-97; DA 14-1329]

Termination of Dormant Proceedings

AGENCY: Federal Communications Commission.

ACTION: Final rule; termination of proceedings.

SUMMARY: In this document, the Consumer and Governmental Affairs Bureau (CGB or Bureau), terminates, as dormant, certain docketed Commission proceedings. The Commission believes that termination of these proceedings furthers the Commission's organizational goals of increasing the efficiency of its decision-making, modernizing the agency's processes in the digital age, and enhancing the openness and transparency of Commission proceedings for practitioners and the public.

DATES: Effective September 29, 2014.

FOR FURTHER INFORMATION CONTACT: Gayle Radley Teicher, Consumer and Governmental Affairs Bureau at (202) 418-1515 or by email at gayle.teicher@fcc.gov.

SUPPLEMENTARY INFORMATION: This is a synopsis of the Commission's Order, Termination of Certain Proceedings as Dormant, document DA 14-1329, adopted on September 15, 2015, and released on September 15, 2014 in CG Docket No. 14-97.

The full text of document DA 14-1329 and copies of any subsequently filed documents in this matter will be available for public inspection and copying via ECFS, and during regular business hours at the FCC Reference Information Center, Portals II, 445 12th Street SW., Room CY-A257, Washington, DC 20554. Copies may also be purchased from the Commission's duplicating contractor, Best Copy and Printing, Inc., Portals II, 445 12th Street, SW., Room CY-B402, Washington, DC 20554, telephone (800) 378-3160, fax: (202) 488-5563, or Internet: www.bcpiweb.com. Document DA 14-1329 can also be downloaded in Word or Portable Document Format (PDF) at: http://www.fcc.gov/document/termination-certain-proceedings-dormant-1. The spreadsheet associated with document DA 14-1329 listing the proceedings proposed for termination for dormancy is available in Word or Portable Document Format at http://www.fcc.gov/article/da-14-1329a2.

To request materials in accessible formats for people with disabilities (Braille, large print, electronic files, audio format), send an email to fcc504@fcc.gov or call the Consumer and Governmental Affairs Bureau at (202) 418-0530 (voice) or (202) 418-0432 (TTY).

Final Paperwork Reduction Act of 1995 Analysis

This document does not contain information collection requirements subject to the Paperwork Reduction Act of 1995, Public Law 104-13. In addition, therefore, it does not contain any information collection burden for small business concerns with fewer than 25 employees, pursuant to the Small Business Paperwork Relief Act of 2002, Public Law 107-198, see 44 U.S.C. 3506(c)(4).

Synopsis

1. On June 30, 2014, CGB released the Third Dormant Proceedings Termination Public Notice, DA 14-897, published at 79 FR 42320, July 21, 2014. On July 22, 2014, CGB released a Public Notice announcing that comments and reply comments were due August 20, 2014 and September 4, 2014, respectively. In response to the Third Dormant Proceedings Termination Public Notice, the Commission received one Opposition, one comment, one reply comment, and one ex parte filing.

2. Based on the Commission's review of the record received in response to the Third Dormant Proceedings Termination Public Notice, the Commission terminates the proceedings listed in document DA 14-1329 and leaves open one proceeding that had been listed in document DA 14-897. See https://apps.fcc.gov/edocs_public/attachmatch/DA-14-897A2.doc.

3. W. Scott McCollough filed an opposition requesting that WC Docket No. 04-6 remain open. Based upon further evaluation of the record, the Commission finds that it may be appropriate to address issues raised in this proceeding in the future. Accordingly, the Commission will not terminate this proceeding at this time.

4. PCS Partners, L.P. (“PCSP”) requests that the Commission release a revised Attachment A to document DA 14-1329 in order to include the Multilateration Location and Monitoring Service (M-LMS) rulemaking proceeding in WT Docket No. 06-49 in the list of proceedings that the Commission proposed to terminate. As noted by PCSP, on June 10, 2014, the Commission released its Order terminating the M-LMS rulemaking proceeding in WT Docket No. 06-49, finding that the “various proposals for broad revisions of the applicable rules do not merit further consideration at this time.” PCSP asserts that the Commission did not issue a public notice and did not provide an opportunity for public input prior to release of the M-LMS Termination Order, and claims that the M-LMS Termination Order “therefore does not comply with applicable rules.” PCSP also claims that the Commission did not adequately support its decision in the M-LMS Termination Order. The Commission rejects the request by PCS Partners that we release a revised list of dockets under consideration in this proceeding. The Commission's delegation of authority to the Bureau to terminate certain proceedings does not require the process requested by PCSP in this case, because the Commission itself appropriately and expressly terminated the WT Docket No. 06-49 proceeding in the M-LMS Termination Order. Further, to the extent that PCSP raises substantive arguments regarding the M-LMS Termination Order, those arguments should have been raised in a petition for reconsideration in the WT Docket No. 06-49 proceeding and not here.

5. Upon publication of document DA 14-1329 in the Federal Register, these proceedings will be terminated in the Electronic Comment Filing System (ECFS). The record in the terminated proceedings will remain part of the Commission's official records, and the various pleadings, orders, and other documents in these dockets will continue to be accessible to the public, post-termination.

Regulatory Flexibility Act

6. The Commission's action does not require notice and comment and is not subject to the Regulatory Flexibility Act of 1980, as amended. See 5 U.S.C. 601(2), 603(a). The Commission nonetheless notes that it anticipates that the rules adopted will not have a significant economic impact on a substantial number of small entities. As described above, the Commission primarily changes its own internal procedures and organizations and does not impose substantive new responsibilities on regulated entities. There is no reason to believe termination of certain dormant proceedings would impose significant costs on parties to Commission proceedings. To the contrary, the Commission takes the actions herein with the expectation that overall they will make dealings with the Commission quicker, easier, and less costly for entities of all size.

Congressional Review Act

The Commission will not send a copy of document DA 14-1329 pursuant to the Congressional Review Act, see 5 U.S.C. 801(a)(1)(A) because the Commission is not adopting, amending, revising, or deleting any rules.

Ordering Clauses

Pursuant to the authority contained in sections 4(i), and 4(j) of the Communications Act, 47 USC 154(i) and (j), and § 0.141 of the Commission's rules, that the proceedings set forth in document DA 14-1329 are terminated.

Federal Communications Commission.
Kris Anne Monteith,
Acting Chief, Consumer and Governmental Affairs Bureau.

[FR Doc. 2014-23140 Filed 9-26-14; 8:45 am]

BILLING CODE 6712-01-P